NUCLEAR REGULATORY COMMISSION

Guidance for Electronic Submissions to the NRC; Report Available for Comment

AGENCY: Nuclear Regulatory Commission.

ACTION: Announcement of issuance for public comment, availability.

SUMMARY: The Nuclear Regulatory Commission currently has three separate documents providing guidance to the public on how to submit documents electronically to the agency. The NRC has consolidated these documents into one guidance document and is issuing it for public comment. This guidance contains a new chapter providing guidance for Combined License Application (COLA) submittals. Its provisions pertaining to electronic filings in adjudications (other than the high level waste repository licensing proceeding and the Vogtle early site permit proceeding) are not to be used until the Commission issues its final rule on the subject.

DATES: The NRC expects to update the guidance found in this document as changes in technology warrant. Comments from the public are welcome at any time and the NRC will make changes to this document as appropriate.

ADDRESSES: “Guidance for Electronic Submissions to the NRC” is available for inspection and copying for a fee at the NRC Public Document Room, Public File Area O1-F21, 11555 Rockville Pike, Rockville, Maryland. Publicly available documents created or received at the NRC after November 1, 1999, are available electronically at the NRC's Electronic Reading Room at http://www.nrc.gov/reading-rm.html. From this site, the public can gain entry into the NRC's Agencywide Document Access and Management System (ADAMS), which provides text and image files of NRC's public documents. The ADAMS Accession Number for “Guidance for Electronic Submissions to the NRC” is: ML071580647. If you do not have access to ADAMS or if there are problems in accessing the documents located in ADAMS, contact the NRC Public Document Room Reference staff at 1-800-397-4209, 301-415-4737 or by e-mail to pdr@nrc.gov.

A free single copy of “Guidance for Electronic Submissions to the NRC may be requested by writing to Office of Administration, Reproduction and Distribution Services, U.S. Nuclear Regulatory Commission, Printing and Graphics Branch, Washington, DC 20555-0001; facsimile: 301-415-2289; e-mail: DISTRIBUTION@nrc.gov.

Please submit comments to Chief, Rulemaking, Directives, and Editing Branch, Office of Administration, U.S. Nuclear Regulatory Commission, Washington, DC 20555-0001. You may also deliver comments to 11545 Rockville Pike, Rockville, Maryland, between 7:30 a.m. and 4:30 p.m. Federal workdays, or e-mail to: nrcrep@nrc.gov.

FOR FURTHER INFORMATION CONTACT: Thomas E. Smith, Information and Records Services Division, Office of Information Services, U.S. Nuclear Regulatory Commission, Washington, DC 20555-0001. Telephone: 301-415-7043, e-mail: tes@nrc.gov.

SUPPLEMENTARY INFORMATION: The report “Guidance for Electronic Submissions to the NRC”, consolidates several pre-existing documents that provide guidance for electronic submittals to the NRC. The result is a single guidance document, which addresses electronic submittals to the NRC. The following documents have been consolidated into this guidance document and are superseded:

1. Guidance for Submission of Electronic Docket Materials under 10 CFR Part 2, Subpart J,

2. Guidance for Submission of Electronic Docket Materials (10 CFR Part 2, Subpart C, 10 CFR Part 13, 10 CFR Part 110) and

3. Appendix A, United States Nuclear Regulatory Commission (NRC), Guidance for Electronic Submissions to the Commission.

Dated at Rockville, Maryland, June 18, 2007.
For the Nuclear Regulatory Commission.
Jennifer Golder,
Acting Director, Information and Records Services Division, Office of Information Services.

[FR Doc. E7-12548 Filed 6-27-07; 8:45 am]

BILLING CODE 7590-01-P